FEDERAL FINANCIAL INSTITUTIONS EXAMINATION COUNCIL

Appraisal Subcommittee; 60 Day Notice of Intent To Request Clearance for Extension of Collection of Information; Opportunity for Public Comment

AGENCY: Appraisal Subcommittee, Federal Financial Institutions Examination Council.

ACTION: Notice of intent to request clearance for extension of a currently approved collection of information and request for comments.

SUMMARY: In accordance with the Paperwork Reduction Act of 1995 and 5 CFR part 1320, Reporting and Recordkeeping Requirements, the Appraisal Subcommittee of the Federal Financial Institutions Examination Council (“ASC”) is soliciting comments on the need for the collection of information contained in 12 CFR part 1102, subpart B, Rules of Practice for Proceedings. The ASC also requests comments on the practical utility of the collection of information; the accuracy of the burden hour estimate; ways to enhance the quality, utility, and clarity of the information to be collected; and ways to minimize the burden to respondents, including use of automated information collection techniques or other forms of information technology.

DATES: Comments on this information collection must be received on or before April 24, 2006.

ADDRESSES: Send comments to Ben Henson, Executive Director, Appraisal Subcommittee, 2000 K Street, NW., Suite 310, Washington, DC 20006.

FOR FURTHER INFORMATION CONTACT: Marc L. Weinberg, General Counsel, Appraisal Subcommittee, at 2000 K Street, NW., Suite 310, Washington, DC 20006 or 202-293-6250.

SUPPLEMENTARY INFORMATION: Title: 12 CFR part 1102, subpart B; Rules of Practice for Proceedings.

ASC Form Number: None.

OMB Number: 3139-0005.

Expiration Date: To be requested.

Type of Request: Extension of currently approved collection of information.

Description of Need: The information is used by the ASC in determining whether the ASC should initiate a non-recognition proceeding or “take further action” against a State appraisal regulatory agency (“State agency”) and other persons under section 1118 of Title XI of the Financial Institutions Reform, Recovery, and Enforcement Act of 1989 (12 U.S.C. 3337). The collection of information also sets out detailed procedures for such actions.

Automated Data Collection: None.

Description of Respondents: State, local or tribal government.

Estimated Average Number of Respondents: 2 respondents.

Estimated Average Number of Responses: Each respondent will be required to respond throughout the single proceeding initiated under 12 CFR part 1102, subpart.

Estimated Average Burden Hours per Response: 60 hours for each proceeding.

Estimated Annual Reporting Burden: 120 hours.

By the Appraisal Subcommittee of the Federal Financial Institutions Examination Council.
Dated: February 15, 2006.
Ben Henson,
Executive Director.

[FR Doc. E6-2427 Filed 2-17-06; 8:45 am]

BILLING CODE 6700-01-P